DEPARTMENT OF TRANSPORTATION

Federal Highway Administration

[Docket No. FHWA-2023-0055]

Agency Information Collection Activities: Notice of Request for Renewal of Currently Approved Information Collection

AGENCY: Federal Highway Administration (FHWA), DOT.

ACTION: Notice of request for extension of currently approved information collection.

SUMMARY: The FHWA has forwarded the information collection request described in this notice to the Office of Management and Budget (OMB) for approval of a renewal of information collection. We published a Federal Register Notice with a 60-day public comment period on this information collection on October 18, 2023. We are required to publish this notice in the Federal Register by the Paperwork Reduction Act of 1995.

DATES: Please submit comments by January 25, 2024.

ADDRESSES: You may submit comments identified by DOT Docket ID Number 0055 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Carlos B. McCloud, (225) 433-2892—carlos.mccloud@dot.gov or David Harris, (202) 366-2825-dave.harris@dot.gov, FHWA Office of Transportation Management (HOTM) USDOT HQ E84-471, 1200 New Jersey Avenue SE, Washington, DC 20590. Office hours are from 8 a.m. to 5 p.m., Monday through Friday, except Federal holidays.

SUPPLEMENTARY INFORMATION:

Title: Strategic Innovation for Revenue Collection (SIRC) Program Grant Application.

OMB Control #: 2125-0676.

Background: In adherence with 5 CFR 1320.13, this is a request for approval for an emergency clearance for processing of information related to a new collection of information for the SIRC Program grant application submission and quarterly reporting requirements for FY 2023-2024 program of projects awards. The collection of information will support implementation of title III—Research, Technology, and Education, sec. 13001. Strategic Innovation for Revenue Collection (a) and (b) of the Infrastructure Investment and Jobs Act (Public Law No: 117-58 or also referred to as the Bipartisan Infrastructure Law-BIL (see Exhibit A page 12). The Office of the Secretary of Transportation (OST) and the Federal Highway Administration (FHWA) has coordinated on the development of public information to solicit responses to a Notice of Funding Opportunity (NOFO) for the SIRC Program. Awarded funds to eligible applicants will test the feasibility of a road usage fee and other user-based alternative revenue mechanisms (referred to in this section as “user based alternative revenue mechanisms”) to help maintain the long-term solvency of the Highway Trust Fund.

• The information will be received by the FHWA to fulfill the grant application submittal requirements and agreements prescribed in the NOFO.

• The collection of information will include grant application forms and narratives, grant agreements, and project management quarterly reporting.

• The purpose of the collection is to receive information relevant to evaluating applications to the SIRC grant program, per the NOFO, and reporting requirements agreed to by recipients of the Grants.

• The obligation to respond to the collection of information is voluntary and is required to obtain or retain a benefit.

The Strategic Innovation for Revenue Collection (SIRC) Program seeks to fund pilot projects that test the implementation of user-based alternative revenue mechanisms that utilize a road user fee structure for eligible entities to test the feasibility of the program objectives outlined in section 133001(b)(3), as prescribed in Exhibit A of this document. Grant awards test innovative ways to replace or supplement the Federal gas tax to maintain the long-term solvency of the Highway Trust Fund. The collection of information is necessary to receive applications for grant funds, evaluate the effectiveness of projects that have been awarded grant funds, and monitor project financial conditions and project progress pursuant to section 133001(b)(3). FY 2023—FY 2024 is the first year of implementation for the SIRC Program. FHWA implemented a similar predecessor program, the Surface Transportation System Funding Alternatives (STSFA) program authorized by section 6020 of the Fixing America's Surface Transportation (FAST) Act, Public Law 114-94, FY 2016-2021, which was repealed with the passage of BIL. Information about awards funded under the STSFA program is available at: https://ops.fhwa.dot.gov/stsfa/index.htm.

FHWA requests information from applicants in the form an electronic application, which will represent 100% of the submissions. The application will assist in soliciting proposals for funding from eligible applicants for the five-year grant program, to monitor the grant program recipients, project progress, assess project outcomes and permit evaluation. The reporting requirements are submitted by recipients and will be completed during the application stage, grant agreement, and the project management stages.

FHWA will continue to use the information collected in the application phase to evaluate proposals and make decisions to award grants to applicants for any future similar appropriations. FHWA will use the information to monitor the progress of projects that have been awarded SIRC Program funds, and to monitor the proper expenditure of Federal funds. The project management information will be collected by grant recipients.

Much of the information will be produced and collected through the normal process of project management, so the additional burden of Government information collection is small in comparison to the data management related to information that grant recipients already collect to manage their projects properly. The information collected from grant recipients is project specific and the information is not available other than from the grantees. The information will be used to monitor projects on a quarterly basis, and to ensure on an annual basis that the project's plan conforms to the project's real operating environment.

All information submitted as part of or in support of any application shall use publicly available data or data that can be made public. If the application includes information the applicant considers to be a trade secret or confidential commercial or financial information, the applicant should do the following: (1) Note on the front cover that the submission “Contains Confidential Business Information (CBI)”; (2) mark each affected page “CBI”; and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA. Retention of records will adhere to DOT Order 1351.28 Records Management, 28.4.5 Electronic Records.

The Department will receive application reports electronically via email and via websites from grant awardees upon approval from OMB. Certain agencies within the Department have found that delivery of reports electronically is the most reliable way to collect information and will use their existing grant administration systems to collect the information covered under this request. To minimize the burden on applicants, OMB approved standard forms are being used to collect information where possible. Such standard forms include the Application for Federal Assistance (SF-424), available online at https://apply07.grants.gov/apply/forms/sample/SF424_2_1-V2.1.pdf, and the post-award Federal Financial Reports form (SF-425), available online at https://apply07.grants.gov/apply/forms/sample/SF425_2_0-V2.0.pdf.

If the information requested in the reports is not collected, the Department will not be able to evaluate project progress or financial conditions in accordance with the 23 U.S.C., Bipartisan Infrastructure Law and the Notice of Funding Opportunity (NOFO) for the program published in the Federal Register. The quarterly collection of financial data ensures that the use of Federal funds can be appropriately monitored.

Respondents: The primary respondents are the eligible applicants, which includes a State or a group of States, Metropolitan Planning Organization (MPO) or a group of Metropolitan Planning Organizations (as defined in section 134(b) of title 23, United States Code), a local government or a group of local governments.

Frequency: Every year by December 31st.

Estimated Average Burden per Response: The estimated number of hours for each of the 15 recipients (annually based on previous STSFA Program) to compile and submit the requested data is estimated to be no more than 8 employee hours annually.

Estimated Total Annual Burden Hours: Total estimated average annual burden is 1,032 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: December 19, 2023.
Jazmyne Lewis,
Information Collection Officer.

[FR Doc. 2023-28320 Filed 12-22-23; 8:45 am]

BILLING CODE 4910-22-P